DEPARTMENT OF LABOR

Employment and Training Administration

[TA-W-71,056]

Stanadyne Corporation, Including On-Site Leased Workers From Infini-Staff, Staffing Now and Apollo Professional Solutions, Inc., Windsor, CT; Amended Certification Regarding Eligibility To Apply for Worker Adjustment Assistance

In accordance with Section 223 of the Trade Act of 1974, as amended (“Act”), 19 U.S.C. 2273, the Department of Labor issued a Certification of Eligibility to Apply for Worker Adjustment Assistance on August 17, 2009, applicable to workers of Stanadyne Corporation, including on-site leased workers for Infini-Staff and Staffing Now, Windsor, Connecticut. The notice was published in the Federal Register on September 22, 2009 (74 FR 48301).

At the request of the State agency, the Department reviewed the certification for workers of the subject firm. The workers are engaged in the production of diesel engine fuel system components including fuel pumps, fuel injectors, and precision custom manufactured parts.

New information shows that workers leased from Apollo Professional Solutions were employed on-site at the Windsor, Connecticut location of Stanadyne Corporation. The Department has determined that these workers were sufficiently under the control of the subject firm to be considered leased workers.

Based on these findings, the Department is amending this certification to include workers leased from Apollo Professional Solutions working on-site at the Windsor, Connecticut location of the subject firm.

The amended notice applicable to TA-W-71,056 is hereby issued as follows:

All workers of Stanadyne Corporation, including on-site leased workers from Infini-Staff, Staffing Now and Apollo Professional Solutions, Inc., Windsor, Connecticut, who became totally or partially separated from employment on or after June 4, 2008, through August 17, 2011, and all workers in the group threatened with total or partial separation from employment on the date of certification through two years from the date of certification, are eligible to apply for adjustment assistance under Chapter 2 of Title II of the Trade Act of 1974, as amended.

Signed at Washington, DC, this 13th day of July 2010.
Richard Church,
Certifying Officer, Division of Trade Adjustment Assistance.

[FR Doc. 2010-18835 Filed 7-30-10; 8:45 am]

BILLING CODE 4510-FN-P